DEPARTMENT OF COMMERCE

International Trade Administration

Initiation of Antidumping and Countervailing Duty Administrative Reviews and Request for Revocation in Part

AGENCY: Import Administration, International Trade Administration, Department of Commerce.

SUMMARY: The Department of Commerce (“the Department”) has received requests to conduct administrative reviews of various antidumping and countervailing duty orders and findings with September anniversary dates. In accordance with the Department's regulations, we are initiating those administrative reviews. The Department also received a request to revoke one antidumping duty order in part.

DATES: Effective Date: October 31, 2011.

FOR FURTHER INFORMATION CONTACT: Brenda Waters, Office of AD/CVD Operations, Customs Unit, Import Administration, International Trade Administration, U.S. Department of Commerce, 14th Street and Constitution Avenue NW., Washington, DC 20230, telephone: (202) 482-4735.

SUPPLEMENTARY INFORMATION:

Background

The Department has received timely requests, in accordance with 19 CFR 351.213(b), for administrative reviews of various antidumping and countervailing duty orders and findings with September anniversary dates. The Department also received a timely request to revoke in part the antidumping duty order on Certain Lined Paper Products from India for one exporter.

All deadlines for the submission of various types of information, certifications, or comments or actions by the Department discussed below refer to the number of calendar days from the applicable starting time.

Notice of No Sales

If a producer or exporter named in this notice of initiation had no exports, sales, or entries during the period of review (“POR”), it must notify the Department within 60 days of publication of this notice in the Federal Register. All submissions must be filed electronically at http://iaaccess.trade.gov in accordance with 19 CFR 351.303. See Antidumping and Countervailing Duty Proceedings: Electronic Filing Procedures; Administrative Protective Order Procedures, 76 FR 39263, (July 6, 2011). Such submissions are subject to verification in accordance with section 782(i) of the Tariff Act of 1930, as amended (“Act”). Further, in accordance with 19 CFR 351.303(f)(3)(ii) of the regulations, a copy of each request must be served on the petitioner and each exporter or producer specified in the request.

Respondent Selection

In the event the Department limits the number of respondents for individual examination for administrative reviews, the Department intends to select respondents based on U.S. Customs and Border Protection (“CBP”) data for U.S. imports during the POR. We intend to release the CBP data under Administrative Protective Order (“APO”) to all parties having an APO within seven days of publication of this initiation notice and to make our decision regarding respondent selection within 21 days of publication of this Federal Register notice. The Department invites comments regarding the CBP data and respondent selection within five days of placement of the CBP data on the record of the applicable review.

In the event the Department decides it is necessary to limit individual examination of respondents and conduct respondent selection under section 777A(c)(2) of the Act:

In general, the Department has found that determinations concerning whether particular companies should be “collapsed” (i.e., treated as a single entity for purposes of calculating antidumping duty rates) require a substantial amount of detailed information and analysis, which often require follow-up questions and analysis. Accordingly, the Department will not conduct collapsing analyses at the respondent selection phase of this review and will not collapse companies at the respondent selection phase unless there has been a determination to collapse certain companies in a previous segment of this antidumping proceeding (i.e., investigation, administrative review, new shipper review or changed circumstances review). For any company subject to this review, if the Department determined, or continued to treat, that company as collapsed with others, the Department will assume that such companies continue to operate in the same manner and will collapse them for respondent selection purposes. Otherwise, the Department will not-collapse companies for purposes of respondent selection. Parties are requested to (a) Identify which companies subject to review previously were collapsed, and (b) provide a citation to the proceeding in which they were collapsed. Further, if companies are requested to complete the Quantity and Value Questionnaire for purposes of respondent selection, in general each company must report volume and value data separately for itself. Parties should not include data for any other party, even if they believe they should be treated as a single entity with that other party. If a company was collapsed with another company or companies in the most recently completed segment of this proceeding where the Department considered collapsing that entity, complete quantity and value data for that collapsed entity must be submitted.

Deadline for Withdrawal of Request for Administrative Review

Pursuant to section 351.213(d)(1) of the Department's regulations, a party that has requested a review may withdraw that request within 90 days of the date of publication of the notice of initiation of the requested review. The regulation provides that the Department may extend this time if it is reasonable to do so. In order to provide parties additional certainty with respect to when the Department will exercise its discretion to extend this 90-day deadline, interested parties are advised that, with regard to reviews requested on the basis of anniversary months on or after August 2011, the Department does not intend to extend the 90-day deadline unless the requestor demonstrates that an extraordinary circumstance has prevented it from submitting a timely withdrawal request. Determinations by the Department to extend the 90-day deadline will be made on a case-by-case basis.

Separate Rates

In proceedings involving non-market economy (“NME”) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise under a test arising from the Final Determination of Sales at Less Than Fair Value: Sparklers from the People's Republic of China, 56 FR 20588 (May 6, 1991), as amplified by Final Determination of Sales at Less Than Fair Value: Silicon Carbide from the People's Republic of China, 59 FR 22585 (May 2, 1994). In accordance with the separate-rates criteria, the Department assigns separate rates to companies in NME cases only if respondents can demonstrate the absence of both de jure and de facto government control over export activities.

All firms listed below that wish to qualify for separate-rate status in the administrative reviews involving NME countries must complete, as appropriate, either a separate-rate application or certification, as described below. For these administrative reviews, in order to demonstrate separate-rate eligibility, the Department requires entities for whom a review was requested, that were assigned a separate rate in the most recent segment of this proceeding in which they participated, to certify that they continue to meet the criteria for obtaining a separate rate. The Separate Rate Certification form will be available on the Department's Web site at http://www.trade.gov/ia on the date of publication of this Federal Register notice. In responding to the certification, please follow the “Instructions for Filing the Certification” in the Separate Rate Certification. Separate Rate Certifications are due to the Department no later than 60 calendar days after publication of this Federal Register notice. The deadline and requirement for submitting a Certification applies equally to NME-owned firms, wholly foreign-owned firms, and foreign sellers who purchase and export subject merchandise to the United States.

Entities that currently do not have a separate rate from a completed segment of the proceeding ¹ should timely file a Separate Rate Application to demonstrate eligibility for a separate rate in this proceeding. In addition, companies that received a separate rate in a completed segment of the proceeding that have subsequently made changes, including, but not limited to, changes to corporate structure, acquisitions of new companies or facilities, or changes to their official company name,² should timely file a Separate Rate Application to demonstrate eligibility for a separate rate in this proceeding. The Separate Rate Status Application will be available on the Department's Web site at http://www.trade.gov/ia on the date of publication of this Federal Register notice. In responding to the Separate Rate Status Application, refer to the instructions contained in the application. Separate Rate Status Applications are due to the Department no later than 60 calendar days of publication of this Federal Register notice. The deadline and requirement for submitting a Separate Rate Status Application applies equally to NME-owned firms, wholly foreign-owned firms, and foreign sellers that purchase and export subject merchandise to the United States.

¹ Such entities include entities that have not participated in the proceeding, entities that were preliminarily granted a separate rate in any currently incomplete segment of the proceeding (e.g., an ongoing administrative review, new shipper review, etc.) and entities that lost their separate rate in the most recently complete segment of the proceeding in which they participated.

² Only changes to the official company name, rather than trade names, need to be addressed via a Separate Rate Application. Information regarding new trade names may be submitted via a Separate Rate Certification.

For exporters and producers who submit a separate-rate status application or certification and subsequently are selected as mandatory respondents, these exporters and producers will no longer be eligible for separate rate status unless they respond to all parts of the questionnaire as mandatory respondents.

Initiation of Reviews:

In accordance with sections 19 CFR 351.221(c)(1)(i), we are initiating administrative reviews of the following antidumping and countervailing duty orders and findings. We intend to issue the final results of these reviews not later than September 30, 2012.

| Period to be reviewed
Antidumping Duty Proceedings
India: Certain Lined Paper Products A-533-843 | 9/1/10-8/31/11
Abhinav Paper Products Pvt Ltd
American Scholar, Inc. and/or I-Scholar
A R Printing & Packaging India
Akar Limited
Ampoules & Vials Mfg. Co. Ltd.
Apl Logistics India Pvt. Ltd.
AR Printing & Packaging (I)
Artesign Impex
Arun Art Printers Pvt. Ltd.
Aryan Worldwide
Bafna Exports
Cargomar Pvt. Ltd.
Cello International Pvt. Ltd. (M/S Cello Paper Products)
Chitra Exports
Corporate Stationery Pvt. Ltd.
Crane Worldwide Logistics Ind Pvt.
Creative Divya
D.D International
Diki Continental Exports
Exel India (Pvt.) Ltd.
Exmart International Pvt. Ltd.
Expeditors International (India) Pvt/Expeditors Cargo Mgmnt Systems
Fatechand Mahendrakumar
FFI International
Freight India Logistics Pvt. Ltd.
Gauriputra International
International Greetings Pvt. Ltd.
Karur K.C.P. Packagings Ltd
Kejriwal Paper Ltd. and Kejriwal Exports
Lodha Offset Limited
M.S. The Bell Match Company
Magic International Pvt Ltd
Mahavideh Foundation
Marisa International
Navneet Publications (India) Ltd.
Orient Press Ltd.
Paperwise Inc.
Phalada Agro Research Foundations
Pioneer Stationery Pvt. Ltd.
Premier Exports
Raghunath Exporters
Rajvansh International
Riddhi Enterprises
SAB International
SAI Suburi International
SAR Transport Systems
SDV Intl Logistics Ltd.
Seet Kamal International
SGM Paper Products
Shivam Handicrafts
Soham Udyog
Sonal Printers Pvt. Ltd.
Super Impex
Swati Growth Funds Ltd.
Swift Freight (India) Pvt. Ltd
V&M
Yash Laminates
Mexico: Certain Magnesia Carbon Bricks A-201-837 | 3/11/10-8/31/11
RHI-Refmex SA. de C.V.
The People's Republic of China:
Certain Lined Paper Products ³ A-570-901 | 9/1/10-8/31/11
Shanghai Lian Li Paper Products Co., Ltd. (“Lian Li”)
Leo's Quality Products Co., Ltd./Denmax Plastic Stationary Factory
Certain Magnesia Carbon Bricks ⁴ A-570-954 | 3/12/10-8/31/11
ANH (Xinyi) Refractories Co. Ltd.
Anyang Rongzhu Silicon Industry Co., Ltd.
Bayuquan Refractories Co., Ltd.
Beijing Tianxing Ceramic Fiber Composite Materials Corp.
Changxing Magnesium Furnace Charge Co., Ltd.
Changxing Wangfa Architectural & Metallurgical Materials Co., Ltd.
Changzing Zhicheng Refractory Material Factory
China Metallurgical Raw Material Beijing Company
China Quantai Metallurgical (Beijing) Engineering & Science Co., Ltd.
Chosun Refractories
Cimm Group of China
CNBM International Corporation
Dalian Dalmond Trading Co., Ltd.
Dalian F.T.Z. Maylong Resources Co., Ltd.
Dalian Huayu Refractories International Co., Ltd.
Dalian LST Metallurgy Co., Ltd.
Dalian Mayerton Refractories Ltd.
Dalian Morgan Refractories Ltd.
Dashiqiao Bozhong Mineral Products Co., Ltd.
Dashiqiao City Guangcheng Refractory Co., Ltd.
Dashiqiao Jia Sheng Mining Co., Ltd.
Dashiqiao Jinlong Refractories Co., Ltd.
Dashiqiao RongXing Refractory Material Co., Ltd.
Dashiqiao Sanqiang Refractory Material Co., Ltd.
Dashiqiao Yutong Packing Factory
Dengfeng Desheng Refractory Co., Ltd.
DFL Minmet Refractories Corp.
Duferco BarInvest SA Beijing Office
Duferco Ironet Shanghai Representative Office
Duferco SA
Eastern Industries & Trading Co., Ltd.
Fengchi Imp. and Exp. Co., Ltd. of Haicheng City
Fengchi Mining Co., Ltd of Haicheng City
Fengchi Refractories Co., Haicheng City
Fengchi Refractories Corp.
Haicheng City Qunli Mining Co., Ltd.
Haicheng City Xiyang Import & Export Corporation
Haicheng Donghe Taidi Refractory Co., Ltd.
Haicheng Ruitong Mining Co., Ltd.
Haiyuan Talc Powder Manufacture Factory
Henan Boma Co. Ltd.
Henan Kingway Chemicals Co., Ltd.
Henan Tagore Refractories Co., Ltd.
Henan Xinmi Changzxing Refractories, Co., Ltd.
Hebei Qinghe Refractory Group Co. Ltd
Huailin Refractories (Dashiqiao) Pte. Ltd.
Jiangsu Sujia Group New Materials Co., Ltd
Jiangsu Sujia Joint-Stock Co., Ltd.
Jinan Forever Imp. & Emp. Trading Co., Ltd.
Jinan Linquan Imp. & Emp. Co. Ltd.
Jinan Ludong Refractory Co., Ltd.
Kosmokraft Refractory Limited
Kuehne & Nagel Ltd. Dalian Branch Office
Lechang City Guangdong Province SongXin Refractories Co., Ltd.
Liaoning Fucheng Refractories Group Co., Ltd.
Liaoning Fucheng Special Refractory Co., Ltd.
Liaoning Jiayi Metals & Minerals Ltd.
Liaoning Jinding Magnesite Group
Liaoning Mayerton Refractories Co., Ltd.
Liaoning Mineral & Metallurgy Group Co., Ltd.
Liaoning Qunyi Group Refractories Co., Ltd.
Liaoning Qunyi Trade Co., Ltd.
Liaoning RHI Jinding Magnesis Co., Ltd.
LiShuang Refractory Industrial Co., Ltd.
Lithomelt Co., Ltd.
Luheng Refractory Co., Ltd.
Luoyang Refractory Group Co., Ltd.
Mayerton Refractories
Minsource International Ltd.
Minteq International Inc.
National Minerals Co., Ltd.
North Refractories Co., Ltd.
Orestar Metals & Minerals Co., Ltd.
Oreworld Trade (Tangshan) Co., Ltd.
Puyang Refractories Co., Ltd.
Qingdao Almatis Co., Ltd. (HQ)
Qingdao Almatis Co., Ltd. (Manufacturing)
Qingdao Almatis Trading Co., Ltd. (Sales Office)
Qingdao Blueshell Import & Emport Corp.
Qingdao Fujing Group Co., Ltd.
Qingdao Huierde International Trade Co., Ltd.
RHI Refractories Asia Pacific Pte. Ltd.
RHI Refractories (Dalian) Co., Ltd.
RHI Refractories Liaoning Co., Ltd.
RHI Trading Shanghai Branch
RHI Trading (Dalian) Co., Ltd.
Rongyuan Magnesite Co., Ltd. of Dashiqiao City
Shandong Cambridge International Trade Inc.
Shandong Lunai Kiln Refractories Co., Ltd.
Shandong Refractories Corp.
Shanxi Dajin International (Group) Co., Ltd.
Shanxi Xinrong International Trade Co. Ltd.
Shenyang Yi Xin Sheng Lai Refractory Materials Co., Ltd.
Shinagawa Rongyuan Refractories Co., Ltd.
Sinosteel Corporation
SMMC Group Co., Ltd.
Tangshan Success Import & Export Trading Co., Ltd.
Tianjin New Century Refractories, Ltd.
Tianjin New World Import & Export Trading Co., Ltd.
Tianjin Weiyuan Refractory Co., Ltd.
Vesuvius Advanced Ceramics (Suzhou) Co. Ltd.
Wonjin Refractories Co., Ltd.
Xiyuan Xingquan Forsterite Co., Ltd.
Yanshi City Guangming High-Tech Refractories Products Co., Ltd.
YHS Minerals Co., Ltd.
Yingkou Bayuquan Refractories Co., Ltd.
Yingkou Dalmond Refractories Co., Ltd.
Yingkou Guangyang Refractories Co., Ltd.
Yingkou Guangyang Refractories Co., Ltd. (YGR)
Yingkou Heping Samwha Minerals Co., Ltd.
Yingkou Jiahe Refractories Co., Ltd.
Yingkou Jinlong Refractories Group
Yingkou Kyushu Refractories Co., Ltd.
Yingkou New Century Refractories Ltd.
Yingkou Qinghua Group Imp. & Emp. Co., Ltd.
Yingkou Qinghua Refractories Co., Ltd.
Yingkou Sanhua Refractory Materials Co., Ltd.
Yingkou Tianrun Refractory Co., Ltd.
Yingkou Wonjin Refractory Material Co., Ltd.
Yingkou Yongji Mag Refractory, Ltd.
Yixing Runlong Trade Co., Ltd.
Yixing Xinwei Leeshing Refractory Material Co., Ltd.
Yixing Zhenqiu Charging Ltd.
Zhejiang Changxing Guangming Special Refractory Material Foundry, Co., Ltd.
Zhejiang Deqing Jinlei Refractory Co., Ltd.
Zhejiang Huzhou Fuzilin Refractory Metals Group Co., Ltd.
Zhengzhou Annec Industrial Co., Ltd.
Zhengzhou Huachen Refractory Co., Ltd.
Zibo Lianzhu Refractory Materials Co., Ltd.
Certain New Pneumatic Off-the-Road Tires ⁵ A-570-912 | 9/1/10-8/31/11
Aeolus Tyre Co., Ltd.
Beijing Shouchuang Tyre Co. Ltd.
Cheng Shin Rubber (Xiamen) Ind. Ltd.
China Enterprises Ltd.
China Haohua Chemical Group Corp.
China National Tyre & Rubber Guilin Co., Ltd.
Cooper Chengshan (Shandong) Tire Co. Ltd.
Double Coin Group Rugao Tyre Co., Ltd.
Double Coin Holding Ltd.
Double Coin Group Shanghai Donghai Tyre Co. Ltd.
Double Happiness Tyre Industries Corp. Ltd.
Eternity International L Freight Forwarder
GITI Tire (China) Investment Co., Ltd.
GITI Tire Pte. Ltd.
Guangzhou Pearl River Rubber Tyre Ltd.
Guilun Tire Co.
Guizhou Tyre Co., Ltd.
Guizhou Advance Rubber Co., Ltd.
Guizhou Tyre Import and Export Corporation
Hangzhou Zhongce Rubber Co., Ltd.
Hebei Starbright Tire Co., Ltd.
Henan Tyre Ltd.
Hwa Fong Rubber Ltd (Hong Kong)
Innova Rubber Co., Ltd.
Jiangsu Feichi Co., Ltd.
Kenda Global Holding Co. Ltd.
Kenda Rubber (China) Co., Ltd.
KS Holding Limited/KS Resources Limited
Laizhou Xiongying Rubber Industry Co., Ltd.
L-Guard International Enterprise
Longkou Xinglong Tire Co. Ltd.
Mai Shandong Radial Tyre Co., Ltd.
Maxxis International (HK) Co. Ltd.
Midland Speciality Tire Co., Ltd.
Oriental Tyre Technology Limited
Qingdao Aonuo Tyre Co. Ltd.
Qingdao Doublestar Tire Industrial Co., Ltd.
Qingdao Eastern Industrial Group Co. Ltd.
Qingdao Etyre International Trade Co. Ltd.
Qingdao Free Trade Zone Full-World International Trade Co., Ltd.
Qingdao Hengda Tire Co. Ltd.
Qingdao Honour Tyre Co. Ltd.
Qingdao Milestone Tyre Co., Ltd.
Qingdao Qihang Tyre Co. Ltd.
Qingdao Qizhou Rubber Co., Ltd.
Qingdao Seanoble International Trade
Qingdao Shuanghe Tyre Co. Ltd.
Qingdao Sinorient International Ltd.
Qingdao Tengjiang Tyre Co. Ltd.
Qingdao Taifa Group Co., Ltd.
Qingdao Yellowsea Tyre Factory
Sailun Co., Ltd.
Shanghai Huyai Group Company
Shandong Chengshan Group
Shandong Goldkylin Rubber Group Co.
Shandong Huatai Rubber Co. Ltd.
Shandong Huitong Tyres Co. Ltd.
Shandong Jinyu Tyre Co., Ltd.
Shandong Linglong Tyre Co. Ltd.
Shandong LuHe Group General Co.
Shandong Sangong Rubber Co. Ltd.
Shandong Taishan Tyre Co., Ltd.
Shandong Wanda Boto Tyre Co., Ltd.
Shandong Xingda Tyre Co., Ltd.
Shandong Xingyuan International Trading Co., Ltd.
Shandong Xingyuan Rubber Co. Ltd.
Shandong Zhentai Tyre Co., Ltd.
Shangong Zhongce Tyre Co. Ltd.
Shifeng Double-Star Tire Co. Ltd.
Sichuan Haida Tyre Group Co. Ltd.
Techking Tires Unlimited
Tengzhou Broncho Tyre Co. Ltd.
Tianjin Wanda Tyre Group
Tianjin United Tire & Rubber International Co., Ltd.
Triangle Tyre Co. Ltd.
U.S. Cooper Tire & Rubber Co.
Weifang Longtai Tyre Co., Ltd.
Weihai Zhongwei Rubber Co., Ltd.
Wendeng Sanfeng Tyre Co. Ltd.
World Tyres Limited
Xiamen Rubber Factory
Xingyuan Tyre Co., Ltd
Xuzhou Hanbang Tyres Co., Ltd.
Xuzhou Xugong Tyre Co. Ltd.
Zhaoyuan Leo Rubber Co. Ltd.
Freshwater Crawfish Tail Meat ⁶ A-570-848 | 9/1/10-8/31/11
China Kingdom (Beijing) Import & Export Co., Ltd.
Nanjing Gemsen International Co., Ltd.
Shanghai Ocean Flavor International Trading Co., Ltd.
Xiping Opeck Food Co., Ltd.
Xuzhou Jinjiang Foodstuffs Co., Ltd.
Yancheng Hi-King Agriculture Developing Co., Ltd.
Kitchen Appliance Shelving and Racks ⁷ A-570-941 | 9/1/10-8/31/11
Asia Pacific CIS (Wuxi) Co., Ltd.
Guangdong Wire King Co., Ltd. (formerly known as Foshun Shunde
Wireking Housewares & Hardware)
Hangzhou Dunli Import & Export Co., Ltd. and Hangzhou Dunli Industry Co., Ltd.
Hengtong Hardware Manufacturing (Huizhou) Co., Ltd.
Jiangsu Weixi Group Co.
Leader Metal Industry Co., Ltd. (aka Marmon Retail Services Asia)
New King Shan (Zhu Hai) Co., Ltd.
Narrow Woven Ribbons with Woven Selvedge ⁸ A-570-952 | 9/1/10-8/31/11
Apex Ribbon
Apex Trimmings
FinerRibbon.com
Hubschercorp
Intercontinental Skyline
Multicolor Inc.
Pacific Imports
Papillon Ribbon & Bow (Canada)
Precious Planet Ribbons & Bows Co., Ltd.
Supreme Laces Inc.
Stribbons (Guangzhou) Ltd.
Stribbons (Nanyang) MNC, Ltd.
Weifang Dongfang Ribbon Weaving Co., Ltd.
Yama Ribbons and Bows Co., Ltd.⁹
Yangzhou Bestpak Gifts & Crafts Co., Ltd.
Taiwan: Narrow Woven Ribbons with Woven Selvedge A-583-844 | 9/1/10-8/31/11
Apex Ribbon
Apex Trimmings
FinerRibbons.com
Hubs Hsien Chan Enterprise Co., Ltd
Hsien Chan Enterprise Co., Ltd
Multicolor Inc.
Novelty Handicraft Co., Ltd.
Pacific Imports
Papillon Ribbon & Bow (Canada)
Shieng Huong Enterprise Co., Ltd.
Supreme Laces Inc.
Countervailing Duty Proceedings
India: Certain Lined Paper Products C-533-844 | 1/1/10-12/31/10
A.R. Printing & Packaging India Pvt. Ltd.
The People's Republic of China:
Certain Magnesia Carbon Bricks C-570-955 | 8/2/10-12/31/10
ANH (Xinyi) Refractories Co. Ltd.
Anyang Rongzhu Silicon Industry Co., Ltd.
Bayuquan Refractories Co., Ltd.
Beijing Tianxing Ceramic Fiber Composite Materials Corp.
Changxing Magnesium Furnace Charge Co., Ltd.
Changxing Wangfa Architectural & Metallurgical Materials Co., Ltd.
Changzing Zhicheng Refractory Material Factory
China Metallurgical Raw Material Beijing Company
China Quantai Metallurgical (Beijing) Engineering & Science Co., Ltd.
Chosun Refractories
Cimm Group of China
CNBM International Corporation
Dalian Dalmond Trading Co., Ltd.
Dalian F.T.Z. Maylong Resources Co., Ltd.
Dalian Huayu Refractories International Co., Ltd.
Dalian LST Metallurgy Co., Ltd.
Dalian Mayerton Refractories Ltd.
Dalian Morgan Refractories Ltd.
Dashiqiao Bozhong Mineral Products Co., Ltd.
Dashiqiao City Guangcheng Refractory Co., Ltd.
Dashiqiao Jia Sheng Mining Co., Ltd.
Dashiqiao Jinlong Refractories Co., Ltd.
Dashiqiao RongXing Refractory Material Co., Ltd.
Dashiqiao Sanqiang Refractory Material Co., Ltd.
Dashiqiao Yutong Packing Factory
Dengfeng Desheng Refractory Co., Ltd.
DFL Minmet Refractories Corp.
Duferco BarInvest SA Beijing Office
Duferco Ironet Shanghai Representative Office
Duferco SA
Eastern Industries & Trading Co., Ltd.
Fengchi Imp. and Exp. Co., Ltd. of Haicheng City
Fengchi Mining Co., Ltd of Haicheng City
Fengchi Refractories Co., of Haicheng City
Fengchi Refractories Corp.
Haicheng City Qunli Mining Co., Ltd.
Haicheng City Xiyang Import & Export Corporation
Haicheng Donghe Taidi Refractory Co., Ltd.
Haicheng Ruitong Mining Co., Ltd.
Haiyuan Talc Powder Manufacture Factory
Henan Boma Co. Ltd.
Henan Kingway Chemicals Co., Ltd.
Henan Tagore Refractories Co., Ltd.
Henan Xinmi Changzxing Refractories, Co., Ltd.
Hebei Qinghe Refractory Group Co. Ltd
Huailin Refractories (Dashiqiao) Pte. Ltd.
Jiangsu Sujia Group New Materials Co., Ltd
Jiangsu Sujia Joint-Stock Co., Ltd.
Jinan Forever Imp. & Emp. Trading Co., Ltd.
Jinan Linquan Imp. & Emp. Co. Ltd.
Jinan Ludong Refractory Co., Ltd.
Kosmokraft Refractory Limited
Kuehne & Nagel Ltd. Dalian Branch Office
Lechang City Guangdong Province SongXin Refractories Co., Ltd.
Liaoning Fucheng Refractories Group Co., Ltd.
Liaoning Fucheng Special Refractory Co., Ltd.
Liaoning Jiayi Metals & Minerals Ltd.
Liaoning Jinding Magnesite Group
Liaoning Mayerton Refractories Co., Ltd.
Liaoning Mineral & Metallurgy Group Co., Ltd.
Liaoning Qunyi Group Refractories Co., Ltd.
Liaoning Qunyi Trade Co., Ltd.
Liaoning RHI Jinding Magnesis Co., Ltd.
LiShuang Refractory Industrial Co., Ltd.
Lithomelt Co., Ltd.
Luheng Refractory Co., Ltd.
Luoyang Refractory Group Co., Ltd.
Mayerton Refractories
Minsource International Ltd.
Minteq International Inc.
National Minerals Co., Ltd.
North Refractories Co., Ltd.
Orestar Metals & Minerals Co., Ltd.
Oreworld Trade (Tangshan) Co., Ltd.
Puyang Refractories Co., Ltd.
Qingdao Almatis Co., Ltd. (HQ)
Qingdao Almatis Co., Ltd. (Manufacturing)
Qingdao Almatis Trading Co., Ltd. (Sales Office)
Qingdao Blueshell Import & Emport Corp.
Qingdao Fujing Group Co., Ltd.
Qingdao Huierde International Trade Co., Ltd.
RHI Refractories Asia Pacific Pte. Ltd.
RHI Refractories (Dalian) Co., Ltd.
RHI Refractories Liaoning Co., Ltd.
RHI Trading Shanghai Branch
RHI Trading (Dalian) Co., Ltd.
Rongyuan Magnesite Co., Ltd. of Dashiqiao City
Shandong Cambridge International Trade Inc.
Shandong Lunai Kiln Refractories Co., Ltd.
Shandong Refractories Corp.
Shanxi Dajin International (Group) Co., Ltd.
Shanxi Xinrong International Trade Co. Ltd.
Shenyang Yi Xin Sheng Lai Refractory Materials Co., Ltd.
Shinagawa Rongyuan Refractories Co., Ltd.
Sinosteel Corporation
SMMC Group Co., Ltd.
Tangshan Success Import & Export Trading Co., Ltd.
Tianjin New Century Refractories, Ltd.
Tianjin New World Import & Export Trading Co., Ltd.
Tianjin Weiyuan Refractory Co., Ltd.
Vesuvius Advanced Ceramics (Suzhou) Co. Ltd.
Wonjin Refractories Co., Ltd.
Xiyuan Xingquan Forsterite Co., Ltd.
Yanshi City Guangming High-Tech Refractories Products Co., Ltd.
YHS Minerals Co., Ltd.
Yingkou Bayuquan Refractories Co., Ltd.
Yingkou Dalmond Refractories Co., Ltd.
Yingkou Guangyang Refractories Co., Ltd.
Yingkou Guangyang Refractories Co., Ltd. (YGR)
Yingkou Heping Samwha Minerals Co., Ltd.
Yingkou Jiahe Refractories Co., Ltd.
Yingkou Jinlong Refractories Group
Yingkou Kyushu Refractories Co., Ltd.
Yingkou New Century Refractories Ltd.
Yingkou Qinghua Group Imp. & Emp. Co., Ltd.
Yingkou Qinghua Refractories Co., Ltd.
Yingkou Sanhua Refractory Materials Co., Ltd.
Yingkou Tianrun Refractory Co.,Ltd.
Yingkou Wonjin Refractory Material Co., Ltd.
Yingkou Yongji Mag Refractory, Ltd.
Yixing Runlong Trade Co., Ltd.
Yixing Xinwei Leeshing Refractory Material Co., Ltd.
Yixing Zhenqiu Charging Ltd.
Zhejiang Changxing Guangming Special Refractory Material Foundry, Co., Ltd.
Zhejiang Deqing Jinlei Refractory Co., Ltd.
Zhejiang Huzhou Fuzilin Refractory Metals Group Co., Ltd.
Zhengzhou Annec Industrial Co., Ltd.
Zhengzhou Huachen Refractory Co., Ltd.
Zibo Lianzhu Refractory Materials Co., Ltd.
New Pneumatic Off-the Road Tires C-570-913 | 1/01/10-12/31/10
Aeolus Tyre Co., Ltd.
Beijing Shouchuang Tyre Co. Ltd.
Cheng Shin Rubber (Xiamen) Ind. Ltd.
China Enterprises Ltd.
China National Tyre & Rubber Guilin Co., Ltd.
Cooper Chengshan (Shandong) Tire Co. Ltd.
Double Coin Group Rugao Tyre Co., Ltd./Double Coin Holding Ltd. (Huyai Group)/Double Coin Group Shanghai Donghai Tyre Co. Ltd.
Double Happiness Tyre Industries Corp. Ltd.
Eternity International L Freight Forwarder
GITI Tire (China) Investment Co., Ltd.
Guangzhou Pearl River Rubber Tyre Ltd.
Guilun Tire Co.
Guizhou Tyre Co., Ltd./Guizhou Advance Rubber Co., Ltd./Guizhou Tyre Import and Export Corporation
Hangzhou Zhongce Rubber Co., Ltd.
Hebei Starbright Tire Co., Ltd.
Hwa Fong Rubber Ltd (Hong Kong)
Innova Rubber Co., Ltd.
Jiangsu Feichi Co., Ltd.
Kenda Global Holding Co. Ltd./Kenda Rubber (China) Co., Ltd.
KS Holding Limited/KS Resources Limited
Laizhou Xiongying Rubber Industry Co., Ltd.
L-Guard International Enterprise
Longkou Xinglong Tire Co. Ltd.
Mai Shandong Radial Tyre Co., Ltd.
Midland Speciality Tire Co., Ltd.
Oriental Tyre Technology Limited
Qingdao Doublestar Tire Industrial Co., Ltd.
Qingdao Eastern Industrial Group Co. Ltd.
Qingdao Etyre International Trade Co. Ltd.
Qingdao Free Trade Zone Full-World
Qingdao Hengda Tire Co. Ltd.
Qingdao Honour Tyre Co. Ltd./Qingdao Aonuo Tyre Co. Ltd.
Qingdao Milestone Tyre Co., Ltd.
Qingdao Qihang Tyre Co. Ltd.
Qingdao Qizhou Rubber Co., Ltd.
Qingdao Seanoble International Trade
Qingdao Shuanghe Tyre Co. Ltd.
Qingdao Sinorient International Ltd.
Qingdao Tengjiang Tyre Co. Ltd.
Qingdao Taifa Group Co., Ltd.
Qingdao Yellowsea Tyre Factory
Sailun Co., Ltd.
Shandong Goldkylin Rubber Group Co.
Shandong Huatai Rubber Co. Ltd.
Shandong Huitong Tyres Co. Ltd.
Shandong Jinyu Tyre Co., Ltd.
Shandong Linglong Tyre Co. Ltd.
Shandong LuHe Group General Co.
Shandong Sangong Rubber Co. Ltd.
Shandong Taishan Tyre Co., Ltd.
Shandong Wanda Boto Tyre Co., Ltd.
Shandong Xingda Tyre Co., Ltd.
Shandong Xingyuan International Trading Co., Ltd.
Shandong Xingyuan Rubber Co. Ltd.
Shandong Zhentai Tyre Co., Ltd.
Shangong Zhongce Tyre Co. Ltd.
Shifeng Double-Star Tire Co. Ltd.
Sichuan Haida Tyre Group Co. Ltd.
Techking Tires Unlimited
Tengzhou Broncho Tyre Co. Ltd.
Tianjin Wanda Tyre Group
Tianjin United Tire & Rubber International Co., Ltd.
Triangle Tyre Co. Ltd.
Weifang Longtai Tyre Co., Ltd.
Weihai Zhongwei Rubber Co., Ltd.
Wendeng Sanfend Tyre Co. Ltd.
World Tyres Limited
Xiamen Rubber Factory
Xinyuan Tyre Co. Ltd.
Xuzhou Hanbang Tyres Co., Ltd.
Xuzhou Xugong Tyres Co. Ltd.
Zhaoyuan Leo Rubber Co. Ltd.
Kitchen Appliance Shelving and Racks C-570-942 | 1/01/10-12/31/10
Asia Pacific CIS (Wuxi) Co., Ltd.
Guangdong Wireking Co., Ltd. (formerly known as Foshun Shunde Wireking Housewares & Hardware)
Hangzhou Dunli Import & Export Co., Ltd. and Hangzhou Dunli Industry Co., Ltd.
Hengtong Hardware Manufacturing (Huizhou) Co., Ltd.
Jiangsu Weixi Group Co.
Leader Metal Industry Co., Ltd. (aka Marmon Retail Services Asis)
New King Shan (Zhu Hai) Co., Ltd. and its parent company King Shan Wire
Narrow Woven Ribbons with Woven Selvedge C-570-953 | 9/01/10-12/31/10
Weifang Dongfang Ribbon Weaving Co., Ltd.
Suspension Agreements
None.

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine, consistent with FAG Italia v. United States, 291 F.3d 806 (Fed Cir. 2002), as appropriate, whether antidumping duties have been absorbed by an exporter or producer subject to the review if the subject merchandise is sold in the United States through an importer that is affiliated with such exporter or producer. The request must include the name(s) of the exporter or producer for which the inquiry is requested.

³ If one of the above named companies does not qualify for a separate rate, all other exporters of Certain Lined Paper Products from the People's Republic of China (“PRC”) who have not qualified for a separate rate are deemed to be covered by this review as part of the single PRC entity of which the named exporters are a part.

⁴ If one of the above named companies does not qualify for a separate rate, all other exporters of Certain Magnesia Carbon Bricks from the PRC who have not qualified for a separate rate are deemed to be covered by this review as part of the single PRC entity of which the named exporters are part.

⁵ If one of the above named companies does not qualify for a separate rate, all other exporters of Certain New Pneumatic Off-the-Road Tires from the PRC who have not qualified for a separate rate are deemed to be covered by this review as part of the single PRC entity of which the named exporters are a part.

⁶ If one of the above named companies does not qualify for a separate rate, all other exporters of Freshwater Crawfish Tail Meat from the PRC who have not qualified for a separate rate are deemed to be covered by this review as part of the single PRC entity of which the named exporters are a part.

⁷ If one of the above named companies does not qualify for a separate rate, all other exporters of Kitchen Appliance Shelving and Racks from the PRC who have not qualified for a separate rate are deemed to be covered by this review as part of the single PRC entity of which the named exporters are a part.

⁸ If one of the above named companies does not qualify for a separate rate, all other exporters of Narrow Woven Ribbons with Woven Selvedge from the PRC who have not qualified for a separate rate are deemed to be covered by this review as part of the single PRC entity of which the named exporters are a part.

⁹ We will review subject merchandise exported by Yama Ribbons and Bows Co, Ltd. not otherwise covered by the exclusion. See Narrow Woven Ribbons with Woven Selvedge from Taiwan and the People's Republic of China: Antidumping Duty Orders, 75 FR 53632 (September 1, 2010).

For the first administrative review of any order, there will be no assessment of antidumping or countervailing duties on entries of subject merchandise entered, or withdrawn from warehouse, for consumption during the relevant provisional-measures “gap” period, of the order, if such a gap period is applicable to the period of review.

Interested parties must submit applications for disclosure under administrative protective orders in accordance with 19 CFR 351.305. On January 22, 2008, the Department published Antidumping and Countervailing Duty Proceedings: Documents Submission Procedures; APO Procedures, 73 FR 3634 (January 22, 2008). Those procedures apply to administrative reviews included in this notice of initiation. Parties wishing to participate in any of these administrative reviews should ensure that they meet the requirements of these procedures (e.g., the filing of separate letters of appearance as discussed at 19 CFR 351.103(d)).

Any party submitting factual information in an antidumping duty or countervailing duty proceeding must certify to the accuracy and completeness of that information. See section 782(b) of the Act. Parties are hereby reminded that revised certification requirements are in effect for company/government officials as well as their representatives in all segments of any antidumping duty or countervailing duty proceedings initiated on or after March 14, 2011. See Certification of Factual Information to Import Administration During Antidumping and Countervailing Duty Proceedings: Interim Final Rule, 76 FR 7491 (February 10, 2011) (Interim Final Rule), amending 19 CFR 351.303(g)(1) and (2). The formats for the revised certifications are provided at the end of the Interim Final Rule. The Department intends to reject factual submissions in any proceeding segments initiated on or after March 14, 2011 if the submitting party does not comply with the revised certification requirements.

These initiations and this notice are in accordance with section 751(a) of the Act (19 U.S.C. 1675(a)) and 19 CFR 351.221(c)(1)(i).

Dated: October 25, 2011.
Christian Marsh,
Deputy Assistant Secretary for Antidumping and Countervailing Duty Operations.

[FR Doc. 2011-28160 Filed 10-28-11; 8:45 am]

BILLING CODE 3510-DS-P